DEPARTMENT OF ENERGY

Federal Energy Regulatory Commission

[Project No. 2445-028]

Green Mountain Power Corporation; Notice of Application Accepted for Filing, Soliciting Motions To Intervene and Protests, Ready for Environmental Analysis, and Soliciting Comments, Recommendations, Terms and Conditions, and Prescriptions

Take notice that the following hydroelectric application has been filed with the Commission and is available for public inspection.

a. Type of Application: Subsequent Minor License.

b. Project No.: 2445-028.

c. Date Filed: December 23, 2021.

d. Applicant: Green Mountain Power Corporation.

e. Name of Project: Center Rutland Hydroelectric Project (project).

f. Location: On Otter Creek in Rutland County, Vermont. The project does not occupy any federal land.

g. Filed Pursuant to: Federal Power Act, 16 U.S.C. 791(a)-825(r).

h. Applicant Contact: Mr. Jason Lisai, Green Mountain Power Corporation, 163 Acorn Lane, Colchester, VT 05446-6611; Phone at (802) 770-2195, or email at jason.lisai@greenmountainpower.com.

i. FERC Contact: Taconya D. Goar at (202) 502-8394, or Taconya.Goar@ferc.gov.

j. Deadline for filing motions to intervene and protests, comments, recommendations, terms and conditions, and prescriptions: 60 days from the issuance date of this notice; reply comments are due 105 days from the issuance date of this notice.

The Commission strongly encourages electronic filing. Please file motions to intervene and protests, comments, recommendations, terms and conditions, and prescriptions using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-2445-028.

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. Project Description: The existing Center Rutland Hydroelectric Project consists of: (1) a 190-foot-long, 14-foot-high concrete and stone masonry gravity dam that includes: (a) a 174-foot-long spillway section with a crest elevation of 504.8 feet National Geodetic Vertical Datum of 1929 (NGVD 29); and (b) a 16-foot-long non-overflow section; (2) an impoundment with a surface area of 13 acres and a storage capacity of 30 acre-feet at an elevation of 507.4 feet NGVD 29; (3) a 13-foot-long, 7- to 30-foot-wide forebay; (4) a 39.58-foot-wide, 18-foot-high concrete and marble masonry intake structure with a 6.7-foot-wide, 6.5-foot-high steel headgate and a 30-foot-wide, 12-foot-high trashrack with 9/16-inch clear bar spacing; (5) a 6-foot-diameter, 75-foot-long steel penstock; (6) a 40-foot-long, 33-foot-wide stone and marble masonry powerhouse containing one 275-kilowatt horizontal-shaft turbine-generator; (7) a 480-volt/12.47-kilovolt (kV) transformer and 80-foot-long, 12.47-kV transmission line that interconnects with the local distribution grid; (8) a 0.35-mile-long fiber optic cable for smart grid communications with the electric system; and (9) appurtenant facilities. The project creates an approximately 100-foot-long bypassed reach of Otter Creek.

The current license requires: (1) run-of-river operation, such that outflow from the project approximates inflow to the impoundment; (2) a minimum bypassed reach flow of 80 cubic feet per second (cfs) or inflow to the impoundment, whichever is less, from June 1 through October 15; and (3) a minimum flow of 90 percent of inflow to the impoundment downstream of the powerhouse when refilling the impoundment following a drawdown for maintenance or emergencies. In addition, the current license requires the implementation of a recreation plan that includes provisions for installing an off-street parking area, signage, landscaping, a picnic area, and a marked footpath to the river.

The applicant proposes to: (1) continue operating the project in a run-of-river mode; (2) continue releasing a minimum bypassed reach flow of 80 cfs or inflow, whichever is less, from June 1 through October 15; (3) release a minimum bypassed reach flow of 40 cfs or inflow, whichever is less, from October 16 through May 31; (4) implement a seasonal tree clearing restriction from April 15 through October 31, for trees that are 4 inches in diameter or greater, to protect the federally-listed northern long-eared bat; (5) develop and implement a flow management and monitoring plan; and (6) develop and implement a historic properties management plan. In addition, the applicant states that the recreation facilities required by the current license were not developed and that it is not proposing to develop the facilities as part of relicensing, but instead proposes to transfer land to the Town of Rutland, Vermont, so that the Town can develop recreation facilities in the same location.

m. A copy of the application can be viewed on the Commission's website at https://www.ferc.gov using the “eLibrary” link. Enter the docket number excluding the last three digits in the docket number field to access the document. For assistance, contact FERC Online Support. At this time, the Commission has suspended access to the Commission's Public Reference Room due to the proclamation declaring a National Emergency concerning the Novel Coronavirus Disease (COVID-19), issued by the President on March 13, 2020. For assistance, contact FERC at FERCOnlineSupport@ferc.gov or call toll free, (886) 208-3676 or TTY (202) 502-8659.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must: (1) bear in all capital letters the title “PROTEST,” “MOTION TO INTERVENE,” “COMMENTS,” “REPLY COMMENTS,” “RECOMMENDATIONS,” “TERMS AND CONDITIONS,” or “PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions, or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed on the service list prepared by the Commission in this proceeding, in accordance with 18 CFR 4.34(b) and 385.2010.

You may also register online at https://ferconline.ferc.gov/FERCOnline.aspx to be notified via email of new filings and issuances related to this or other pending projects. For assistance, contact FERC Online Support.

o. The applicant must file no later than 60 days following the date of issuance of this notice: (1) a copy of the water quality certification; (2) a copy of the request for certification, including proof of the date on which the certifying agency received the request; or (3) evidence of waiver of water quality certification. Please note that the certification request must comply with 40 CFR 121.5(b), including documentation that a pre-filing meeting request was submitted to the certifying authority at least 30 days prior to submitting the certification request. Please also note that the certification request must be sent to the certifying authority and to the Commission concurrently.

p. Procedural schedule: The application will be processed according to the following preliminary schedule. Revisions to the schedule will be made as appropriate.

Milestone | Target date
Deadline for filing interventions, protests, comments, recommendations, preliminary terms and conditions, and preliminary fishway prescriptions | April 2023.
Deadline for filing reply comments | June 2023.

q. Final amendments to the application must be filed with the Commission no later than 30 days from the issuance date of this notice.

Dated: February 17, 2023.
Kimberly D. Bose,
Secretary.

[FR Doc. 2023-03838 Filed 2-23-23; 8:45 am]

BILLING CODE 6717-01-P